FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than June 10, 2004.

A. Federal Reserve Bank of Chicago (Patrick Wilder, Assistant Vice President) 230 South LaSalle Street, Chicago, Illinois 60690-1414:

1. Marshall &Ilsley Corporation, Milwaukee, Wisconsin; to acquire indirectly through its wholly-owned subsidiary, Metavante Corporation, 100 percent of the voting shares of NYCE Corporation, Montvale, New Jersey, and thereby indirectly acquire Everlink Payment Services, Inc., a majority-owned subsidiary of NYCE operating in Canada, and therefore engage in certain data processing activities abroad, pursuant to section 225.28(b)(14)(i) of Regulation Y.

2. Marshall & Ilsley Corporation, Milwaukee, Wisconsin; to acquire indirectly through its wholly-owned subsidiary, Metavante Corporation, 100 percent of the voting shares of Advanced Financial Solutions, Inc., and thereby indirectly acquire all of the limited liability company interests of CheckClear L.L.C., and Medical Banking Exchange L.L.C., all located in Oklahoma City, Oklahoma, and thereby engage in certain data processing activities, pursuant to section 225.28(b)(14)(i) of Regulation Y.

B. Federal Reserve Bank of Cleveland (Nadine W. Wallman, Assistant Vice President) 1455 East Sixth Street, Cleveland, Ohio 44101-2566:

1. Wesbanco, Inc., and WOCC, Inc., both of Wheeling, West Virginia; to acquire Western Ohio Financial Corporation, and thereby indirectly acquire Cornerstone Bank, both of Springfield, Ohio, and thereby engage in operating a savings association, pursuant to section 225.28(b)(4)(ii) of Regulation Y. Comments on this application must be received by June 21, 2004.

Board of Governors of the Federal Reserve System, May 21, 2004.
Robert deV. Frierson,
Deputy Secretary of the Board.

[FR Doc. 04-11969 Filed 5-26-04; 8:45 am]

BILLING CODE 6210-01-S